NATIONAL AERONAUTICS AND SPACE ADMINISTRATION

[Notice (01-031)]

Notice of Prospective Patent License

AGENCY: National Aeronautics and Space Administration.

ACTION: Notice of Prospective Patent License.

SUMMARY: NASA hereby gives notice that SRS Technologies, Inc., of Huntsville, AL, 35806, has applied for an exclusive license to practice the inventions described and claimed in U.S. Patent No. 5,520,960 entitled “Electrically Conductive Polyimides Containing Silver Trifluoroacetylacetonate”; U.S. Patent No. 5,575,955 entitled “Electrically Conductive Polyimide Film Containing Gold (III) Ions, Composition, and Process of Making”; U.S. Patent No. 5,677,418 entitled “Reflective Self-Metallizing Polyimide Films”; U.S. Patent No. 6,019,926, entitled “Reflective Silvered Polyimide Films Via In-Situ Thermal Reduction of Silver (I) Complexes”; U.S. Patent No. 5,502,156 entitled “Electrically Conducting Polyimide Film Containing Tin Complexes”; U.S. Patent No. 5,376,209 entitled “Process for Preparing an Assembly of an Article and a Polyimide Which Resists Dimensional Change, Delamination, and Debonding When Exposed to Changes in Temperature,” and U.S. Patent No. 5,248,519 entitled “Process for Preparing an Assembly of an Article and a Soluble Polyimide Which Resists Dimensional Change, Delamination, and Debonding When Exposed to Changes in Temperature,” all of which are assigned to the United States of America as represented by the Administrator of the National Aeronautics and Space Administration. Written objections to the prospective grant of a license should be sent to Ms. Robin W. Edwards, Patent Attorney, Langley Research Center.

DATES: Responses to this notice must be received by May 1, 2001.

FOR FURTHER INFORMATION CONTACT: Robin W. Edwards, Patent Attorney, Langley Research Center, Mail Stop 212, Hampton, VA, 23681-2199; telephone 757-864-3230.

Dated: February 23, 2001.
Edward A. Frankle,
General Counsel.

[FR Doc. 01-5034 Filed 3-1-01; 8:45 am]

BILLING CODE 7510-01-P